FEDERAL TRADE COMMISSION

Agency Information Collection Activities; Submission for OMB Review; Comment Request

AGENCY: Federal Trade Commission (FTC or Commission).

ACTION: Notice and request for comment.

SUMMARY: In compliance with the Paperwork Reduction Act (PRA) of 1995, the FTC is seeking public comments on its request to OMB for a three-year extension of the current PRA clearance for information collection requirements pertaining to the Commission's administrative activities. That clearance expires on February 28, 2015.

DATES: Comments must be filed by March 11, 2015.

ADDRESSES: Interested parties may file a comment online or on paper, by following the instructions in the Request for Comment part of the SUPPLEMENTARY INFORMATION section below. Write “Administrative Activities: FTC File No. P911409” on your comment, and file your comment online at https://ftcpublic.commentworks.com/ftc/adminactivitiespra2 by following the instructions on the web-based form. If you prefer to file your comment on paper, mail or deliver your comment to the following address: Federal Trade Commission, Office of the Secretary, 600 Pennsylvania Avenue NW., Suite CC-5610 (Annex J), Washington, DC 20580, or deliver your comment to the following address: Federal Trade Commission, Office of the Secretary, Constitution Center, 400 7th Street SW., 5th Floor, Suite 5610 (Annex J), Washington, DC 20024.

FOR FURTHER INFORMATION CONTACT: Nicholas Mastrocinque (Nick M) and Ami Dziekan (Ami D), Bureau of Consumer Protection, Federal Trade Commission, Mail Code CC-9232, 600 Pennsylvania Avenue NW., Washington, DC 20580, Nick M: (202) 326-3188 and Ami D: (202) 326-2648.

SUPPLEMENTARY INFORMATION: Title: Administrative Activities.

OMB Control Number: 3084-0047.

Type of Review: Extension of a currently approved collection.

Abstract: The currently approved information collection consists of: (a) Applications to the Commission, including applications and notices contained in the Commission's Rules of Practice (primarily Parts I, II, and IV); (b) the FTC's consumer complaint systems; and (c) the FTC's program evaluation activities.

On November 14, 2014, the Commission sought comment on the information collection requirements pertaining to the Commission's administrative activities. 79 FR 68245. No comments were received. As required by OMB regulations, 5 CFR part 1320, the FTC is providing this second opportunity for public comment.

Estimated Annual Hours Burden: 222,851 hours (150 + 222,622 + 64 + 15).

(a) Applications to the Commission, including applications and notices supported pursuant to the Commission's Rules of Practice: 150 hours.

Most applications to the Commission generally fall within the “law enforcement” exception to the PRA and are mostly found in Part III (Rules of Practice for Adjudicative Proceedings) of the Commission's Rules of Practice. See 16 CFR 3.1-3.83. Nonetheless, there are various applications and notices to the Commission contained in other rules (generally in Parts I, II, and IV of the Commission's Rule of Practice). For example, staff estimates that the FTC annually receives approximately 15 requests for clearance submitted by former FTC employees in order to participate in certain matters and screening affidavits submitted by partners or legal or business associates of former employees pursuant to Rule 4.1, 16 CFR 4.1. There are also procedures set out in Rule 4.11(e) for agency review of outside requests for Commission employee testimony, through compulsory process or otherwise, and requests for material pursuant to compulsory process in cases or matters to which the agency is not a party. Rule 4.11(e) requires that a person who seeks such testimony or material submit a statement in support of the request. Staff estimates that agency personnel receive approximately 10 requests per year. Other types of applications and notices are either infrequent or difficult to quantify. Nonetheless, in order to cover any potential “collection of information” for which separate clearance has not been sought, staff conservatively projects the FTC will receive 75 applications or notices per year. Staff estimates each respondent will incur, on average, approximately 2 hours of burden to submit an application or notice, resulting in a cumulative annual total of 150 burden hours (75 applications or notices × 2 burden hours).

Annual Cost Burden

Using the burden hours estimated above, staff estimates that the total annual labor cost, based on an estimated average of $115/hour for executives' and attorneys' wages, would be approximately $17,250 (150 hours × $115).¹ There are no capital, start-up, operation, maintenance, or other similar costs to respondents.

¹ Figures based on national median salaries, including bonuses and benefits, divided by a 2,080 hour work year (52 weeks × 40 hours/week), for a “Managing Attorney,” “Attorney II,” “Attorney III,” “Attorney IV,” and “Attorney V” at www.salary.com.

(b) Complaint Systems: 222,622 annual hours.

Consumer Response Center (CRC)

Consumers can submit complaints about fraud and other practices to the FTC's Consumer Response Center by telephone or through an online complaint form at the FTC's Web site. Telephone complaints and inquiries to the FTC are answered both by FTC staff and contractors. These telephone counselors ask for the same information that consumers would enter on the applicable forms available on the FTC's Web site. The FTC also hosts a second online complaint form called econsumer.gov. This form accepts cross-border complaints from consumers through the econsumer.gov Web site and transmits them into the Consumer Sentinel Network. For telephone inquiries and complaints, the FTC staff estimates that it takes 5.9 minutes per call to gather information, and an estimated 5.3 minutes for consumers to enter a complaint online. The burden estimate conservatively assumes that the entire phone call is devoted to collecting information from consumers, although frequently telephone counselors devote a portion of the call to providing requested information to consumers.

As of 2014, the FTC now supports web chat for its online complaint process. Web chat allows consumers to communicate in real time using an easily accessible web interface to obtain technical support for the online complaint process. This feature will enable the FTC to retain consumer complaints from consumers who might otherwise abandon the process. Staff estimates that it will take an average of 5 minutes per chat session to obtain the necessary technical support.

Complaints Concerning the National Do Not Call Registry

To receive complaints from consumers of possible violations of the rules governing the National Do Not Call Registry, 16 CFR 310.4(b), the FTC maintains both an online form and a toll free hotline with automated voice response system. Consumer complainants must provide the phone number that was called, whether the call was prerecorded, and the date and time of the call. They may also provide either the name or telephone number of the company about which they are complaining, their name and address so they can be contacted for additional information, as well as for a brief comment regarding their complaint. In addition, complainants have the option of answering three yes-or-no questions to help law enforcement investigating complaints. The FTC staff estimates that the time required of consumer complainants to the National Do Not Call Registry is 3 minutes for phone complaints and 2 minutes for online complaints.

Identity Theft

To handle complaints about identity theft, the FTC must obtain more detailed information than is required of other complainants. Identity theft complaints generally require more information (such as a description of actions complainants have taken with credit bureaus, companies, and law enforcement, and the identification of multiple suspects) than general consumer complaints and fraud complaints. FTC staff estimates that the online identity theft complaint form takes consumers up to 8.5 minutes to complete.

For consumers who call the CRC with an identity theft complaint, staff estimates that it will take 6.4 minutes per call to obtain complaint information. A substantial portion of identity theft-related calls typically consists of counseling consumers on other steps they should consider taking to obtain relief. The time needed for counseling is excluded from the estimate.

Surveys

Consumer customer satisfaction surveys give the agency information about the overall effectiveness and timeliness of the FTC call center and online complaint process. An entity called Customer Feedback Insights contacts subsets of consumers throughout the year with several preapproved questions to elicit information from consumers about the overall effectiveness of the phone complaint process. Current estimates are that each respondent will require 4.4 minutes to answer the questions during the phone survey and about 2.7 minutes for the online survey (approximately 20-30 seconds per question).

In addition, the FTC currently uses ForeSee, Inc. for online customer satisfaction surveys on www.ftccomplaintassistant.gov. It randomly selects consumers to take part in a brief survey to provide feedback about the Web site. Estimates relating to ForeSee surveys are included under “Misc. and fraud-related consumer complaints (Web chat)” in the table below.

The FTC also plans to send an electronic survey to all United States-located Consumer Sentinel Network users to identify areas where the system is satisfactory and where it can improve. Staff estimates the survey to not take more than 5 minutes to complete.

What follows are staff's estimates of burden for these various collections of information, including the surveys. The figures for the online forms and consumer hotlines are an average of annualized volume for the respective programs including both current and projected volumes over the three-year clearance period sought and the number of respondents for each activity has been rounded to the nearest thousand.

² This category includes online customer satisfaction surveys by ForeSee, Inc., for www.ftccomplaintassistant.gov.

Activity | Number of respondents | Number of minutes/activity | Total hours
Misc. and fraud-related consumer complaints (phone) | 367,000 | 5.9 | 36,088
Misc. and fraud-related consumer complaints (online) | 221,000 | 5.3 | 19,522
Misc. and fraud-related consumer complaints (Web chat) ² | 31,200 | 5.0 | 2,600
Do-Not-Call related consumer complaints (phone) | 627,000 | 3.0 | 31,350
Do-Not-Call related consumer complaints (online) | 2,860,000 | 2.0 | 95,333
Identity theft complaints (phone) | 224,000 | 6.4 | 23,893
Identity theft complaints (online) | 88,000 | 8.5 | 12,467
Customer Satisfaction Questionnaire (phone) | 8,000 | 4.4 | 587
Customer Satisfaction Questionnaire (online) | 17,000 | 2.7 | 765
Consumer Sentinel Network Survey | 200 | 5.0 | 17
Totals | 4,443,400 |  | 222,622

Annual Cost Burden

The cost per respondent should be negligible. Participation is voluntary and will not require any labor expenditures by respondents. There are no capital, start-up, operation, maintenance, or other similar costs to the respondents.

(c) Program Evaluations: 79 hours.

Review of Divestiture Orders—64 hours.

The Commission issues, on average, approximately 10-15 orders in merger cases per year that require divestitures. As a result of a 1999 study authorized by the Office of Management and Budget (OMB) and conducted by the staffs of the Bureau of Competition (BC) and the Bureau of Economics, as well as more recent experience, BC monitors these required divestitures by interviewing representatives of the Commission-approved buyers of the divested assets within the first year after the divestiture is completed.

BC staff interviews representatives of the buyers to ask whether all assets required to be divested were, in fact, divested; whether the buyer has used the divested assets to enter the market of concern to the Commission and, if so, the extent to which the buyer is participating in the market; whether the divestiture met the buyer's expectations; and whether the buyer believes the divestiture has been successful. In a few cases, BC staff may also interview monitor trustees, if appropriate. In all these interviews, staff seeks to learn about pricing and other basic facts regarding competition in the markets of concern to the FTC.

Participation by the buyers is voluntary. Each responding company designates the company representative most likely to have the necessary information; typically, a company executive and an attorney represent the company. Each interview takes less than one hour to complete. BC staff further estimates that it takes each participant no more than one hour to prepare for the interview. Staff conservatively estimates that, for each interview of the responding company, two individuals (a company executive and an attorney) will devote two hours (one hour preparing and one hour participating) each to responding to questions for a total of four hours. Interviews of monitor trustees typically involve only the monitor trustee and take approximately one hour to complete with no more than one hour to prepare for the interview. Assuming that staff evaluates approximately 15 divestitures per year during the three-year clearance period, the total hours burden for the responding companies will be approximately 60 hours per year (15 divestiture reviews × 4 hours for preparing and participating). Staff may include approximately 2 monitor trustee interviews a year, which would add at most 4 hours (2 interviews × 2 hours for preparing and participating.).

Annual Cost Burden

Using the burden hours estimated above, staff estimates that the total annual labor cost, based on a conservative estimated average of $135/hour for executives' and attorneys' wages, would be approximately $8,640 (64 hours × $135).³ There are no capital, start-up, operation, maintenance, or other similar costs to respondents.

³ See supra note 1 (attorney salary source data for “Managing Attorney”).

Review of Advocacy Program—15 hours.

The FTC's advocacy program draws on the Commission's expertise in competition and consumer protection matters to encourage state and federal legislators, agencies and regulatory officials, courts and private entities to consider the effects of their decisions on competition and consumer welfare. The Commission and staff send approximately 20 letters to such decision makers annually regarding the likely effects of various bills, regulations, and other policies.

In the past, the Office of Policy Planning (“OPP”) has evaluated the effectiveness of these advocacy comments by surveying comment recipients and other relevant decision makers. OPP intends to continue this evaluation by sending an electronic, or where necessary, a paper questionnaire to relevant parties within a year after sending an advocacy.

Most survey questions ask the respondent to agree or disagree with a statement concerning the advocacy comment that they received. Specifically, these questions ask about the consideration, content, influence, and public effect of our comments. The questionnaire also provides respondents with an opportunity to provide additional remarks regarding the comments they received, advocacy comments in general, and the outcome of the matter. These survey results are also included in the FTC's internal performance management indicators, and are used to guide the FTC's selection and prioritization of future advocacy opportunities.

OPP staff estimates that, on average, respondents will take 30 minutes or less to complete the questionnaire. OPP staff estimates that 15 minutes of administrative time will be necessary to prepare a survey for return via mail or email. Accordingly, staff estimates that each respondent will incur 45 minutes of burden, resulting in a cumulative total of 15 burden hours per year (45 minutes of burden per respondent × 20 respondents per year). OPP staff does not intend to conduct any follow-up activities that would involve the respondents' participation.

Annual Cost Burden

OPP staff estimates a conservative hourly labor cost of $100 for the time of the survey participants (primarily state representatives and senators) and an hourly labor cost of $20 for administrative support time. Thus, staff estimates a total labor cost of $55 for each response (30 minutes of burden at $100 per hour plus 15 minutes of burden at $20 per hour). Assuming 20 respondents will complete the questionnaire on an annual basis, staff estimates the total annual labor costs will be approximately $1,100 ($55 per response × 20 respondents). There are no capital, start-up, operation, maintenance, or other similar costs to respondents.

Request for Comments

You can file a comment online or on paper. For the Commission to consider your comment, we must receive it on or before March 11, 2015. Write “Administrative Activities: FTC File No. P911409” on your comment. Your comment—including your name and your state—will be placed on the public record of this proceeding, including, to the extent practicable, on the public Commission Web site, at http://www.ftc.gov/os/publiccomments.shtm. As a matter of discretion, the Commission tries to remove individuals' home contact information from comments before placing them on the Commission Web site.

Because your comment will be made public, you are solely responsible for making sure that your comment does not include any sensitive personal information, such as anyone's Social Security number, date of birth, driver's license number or other state identification number or foreign country equivalent, passport number, financial account number, or credit or debit card number. You are also solely responsible for making sure that your comment does not include any sensitive health information, like medical records or other individually identifiable health information. In addition, do not include any “[t]rade secret or any commercial or financial information which is . . . privileged or confidential,” as discussed in Section 6(f) of the FTC Act, 15 U.S.C. 46(f), and FTC Rule 4.10(a)(2), 16 CFR 4.10(a)(2). In particular, do not include competitively sensitive information such as costs, sales statistics, inventories, formulas, patterns, devices, manufacturing processes, or customer names.

If you want the Commission to give your comment confidential treatment, you must file it in paper form, with a request for confidential treatment, and you are required to follow the procedure explained in FTC Rule 4.9(c), 16 CFR 4.9(c). Your comment will be kept confidential only if the FTC General Counsel grants your request in accordance with the law and the public interest.

Postal mail addressed to the Commission is subject to delay due to heightened security screening. As a result, we encourage you to submit your comment online, or to send it to the Commission by courier or overnight service. To make sure that the Commission considers your online comment, you must file it at https://ftcpublic.commentworks.com/ftc/adminactivitiespra2, by following the instructions on the web-based form. If this Notice appears at http://www.regulations.gov, you also may file a comment through that Web site.

If you file your comment on paper, write “Administrative Activities: FTC File No. P911409” on your comment and on the envelope, and mail or deliver it to the following address: Federal Trade Commission, Office of the Secretary, 600 Pennsylvania Avenue NW., Suite CC-5610 (Annex J), Washington, DC 20580, or deliver your comment to the following address: Federal Trade Commission, Office of the Secretary, Constitution Center, 400 7th Street SW., 5th Floor, Suite 5610 (Annex J), Washington, DC 20024. If possible, submit your paper comment to the Commission by courier or overnight service.

The FTC Act and other laws that the Commission administers permit the collection of public comments to consider and use in this proceeding as appropriate. The Commission will consider all timely and responsive public comments that it receives on or before March 11, 2015. You can find more information, including routine uses permitted by the Privacy Act, in the Commission's privacy policy, at http://www.ftc.gov/ftc/privacy.shtm.

Comments on the information collection requirements subject to review under the PRA should also be submitted to OMB. If sent by U.S. mail, address comments to: Office of Information and Regulatory Affairs, Office of Management and Budget, Attention: Desk Officer for the Federal Trade Commission, New Executive Office Building, Docket Library, Room 10102, 725 17th Street NW., Washington, DC 20503. Comments sent to OMB by U.S. postal mail, however, are subject to delays due to heightened security precautions. Thus, comments instead should be sent by facsimile to (202) 395-5167.

David C. Shonka,
Principal Deputy General Counsel.

[FR Doc. 2015-02435 Filed 2-6-15; 8:45 am]

BILLING CODE 6750-01-P